FEDERAL DEPOSIT INSURANCE CORPORATION

[OMB No. 3064-0082 -0084]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0082; -0084).

DATES: Comments must be submitted on or before April 27, 2021.

ADDRESSES: Interested parties are invited to submit written comments to the FDIC by any of the following methods:

• https://www.FDIC.gov/regulations/laws/federal.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street building (located on F Street), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION: Proposal to renew the following currently approved collections of information:

1. Title: Recordkeeping, Disclosure and Reporting Requirements in Connection with Regulation Z.

OMB Number: 3064-0082.

Form Number: None.

Affected Public: FDIC-supervised institutions.

Burden Estimate: The total estimated annual burden is 2,395,630 hours (36 hours estimated implementation burden, plus 2,395,594 hours estimated ongoing burden). The burden estimate is detailed on the following tables:

¹ FDIC estimates that all existing FDIC-supervised institutions have implemented the policies and procedures required by Regulation Z and will only face the estimated ongoing (transaction) burdens reflected in the Ongoing Burden Estimate table. The respondent count of 1 is intended as a placeholder for the associated burden estimate to account for any institution(s) that may become subject to the information collection requirements in the future.

Implementation (One-Time) Burden Estimate
| Obligation to respond/ type of burden | Estimated number of respondents1 | Estimated average number of credit accounts | Frequency of response | Number of responses | Estimated time per response (minutes) | Total estimated annual burden (hours)
Open-End Credit Products
• Not Home-Secured Open-End Credit Plans
Credit and Charge Card Provisions:
Timely Settlement of Estate Debts (1026.11(c)(1)) Written Policies and Procedures | Mandatory Recordkeeping | 1 | N/A | 1 | 1 | 480.00 | 8
Ability to Pay (1026.51(a)(ii)) Written Policies and Procedures | Mandatory Recordkeeping | 1 | N/A | 1 | 1 | 480.00 | 8
Mortgage Products (Open and Closed-End)
• Valuation Independence
Mandatory Reporting:
Implementation of Policies and Procedures (1026.42(g)) | Mandatory Recordkeeping | 1 | N/A | 1 | 0 | 1,200.00 | 20
Total Estimated Implementation Burden |  |  |  |  |  |  | 36

Ongoing Burden Estimate
| Obligation to respond/ type of burden | Estimated number of respondents1 | Estimated average number of credit accounts | Frequency of response | Number of responses | Estimated time per response (minutes) | Total estimated annual burden (hours)
Open-End Credit Products
• Not Home-Secured Open-End Credit Plans
General Disclosure Rules for Not Home-Secured Open-End Credit Plans:
Credit and Charge Card Applications and Solicitations (1026.60) | Mandatory Disclosure | 634 | N/A | 1 | 634 | 480.00 | 5,072
Account Opening Disclosures (1026.6(b)) | Mandatory Disclosure | 634 | N/A | 1 | 634 | 720.00 | 7,608
Periodic Statements (1026.7(b)) | Mandatory Disclosure | 634 | N/A | 12 | 7,608 | 480.00 | 60,864
Annual Statement of Billing Rights (1026.9(a)(1)) | Mandatory Disclosure | 317 | N/A | 1 | 317 | 480.00 | 2,536
Alternative Summary Statement of Billing Rights (1026.9(a)(2)) | Voluntary Disclosure | 317 | N/A | 12 | 3,804 | 480.00 | 30,432
Change in Terms Disclosures (1026.9(b) through (h)) | Mandatory Disclosure | 634 | N/A | 1 | 634 | 480.00 | 5,072
Credit and Charge Card Provisions:
Timely Settlement of Estate Debts (1026.11(c)(2)) | Mandatory Disclosure | 634 | 428 | 1 | 271,352 | 5.00 | 22,613
Ability to Pay (1026.51) | Mandatory Recordkeeping | 634 | N/A | 1 | 634 | 720.00 | 7,608
College Student Credit Annual Report (1026.57(d)) | Mandatory Reporting | 634 | N/A | 1 | 634 | 480.00 | 5,072
Submission of Credit Card Agreements (1026.58(c)) | Mandatory Reporting | 634 | N/A | 4 | 2,536 | 180.00 | 7,608
Internet Posting of Credit Card Agreements (1026.58(d)) | Mandatory Disclosure | 634 | N/A | 4 | 2,536 | 360.00 | 15,216
Individual Credit Card Agreements (1026.58(e)) | Mandatory Disclosure | 634 | 125 | 1 | 79,250 | 15.00 | 19,813
• Home Equity Open-End Credit Plans (HELOC)
• General Disclosure Rules for HELOC's:
Application Disclosures (1026.40) | Mandatory Disclosure | 2,717 | N/A | 1 | 2,717 | 720.00 | 32,604
Account Opening Disclosures (1026.6(a)) | Mandatory Disclosure | 2,717 | N/A | 1 | 2,717 | 720.00 | 32,604
Periodic Statements (1026.7(a)) | Mandatory Disclosure | 2,717 | N/A | 1 | 2,717 | 480.00 | 21,736
Annual Statement of Billing Rights (1026.9(a)(1)) | Mandatory Disclosure | 2,717 | N/A | 1 | 2,717 | 480.00 | 21,736
Alternative Summary Statement of Billing Rights (1026.9(a)(2)) | Voluntary Disclosure | 2,717 | N/A | 1 | 2,717 | 480.00 | 21,736
Change in Terms Disclosures (1026.9(b) through (h)) | Mandatory Disclosure | 2,717 | N/A | 1 | 2,717 | 480.00 | 21,736
Notice to Restrict Credit (1026.9(c)(1)(iii); .40(f)(3)(i) and (vi)) | Mandatory Disclosure | 2,717 | N/A | 1 | 2,717 | 120.00 | 5,434
• All Open-End Credit Plans
Error Resolution (1026.13) | Mandatory Disclosure | 3,624 | 2,963 | 1 | 10,737,912 | 1.0 | 178,965
Closed-End Credit Products
• General Rules for Closed-End Credit
Other than Real Estate, Home-Secured and Private Education Loans (1026.17 and .18) | Mandatory Disclosure | 1 | N/A | 1 | 1 | 720.00 | 12
• Closed-End Mortgages
Application and Consummation:
Loan Estimate (1026.19(e); and .37) | Mandatory Disclosure | 3,628 | N/A | 1 | 3,628 | 480.00 | 29,024
Closing Disclosure (1026.19(f); and .38) | Mandatory Disclosure | 3,628 | N/A | 1 | 3,628 | 480.00 | 29,024
Record Retention of Disclosures (1026.19(e), (f); .37; and .38) | Mandatory Recordkeeping | 3,628 | N/A | 1 | 3,628 | 18.00 | 1,088
Post-Consummation Disclosures:
Interest Rate and Payment Summary (1026.18(s)) | Mandatory Disclosure | 3,628 | N/A | 1 | 3,628 | 2,400.00 | 145,120
No Guarantee to Refinance Statement (1026.18(t)) | Mandatory Disclosure | 3,628 | N/A | 1 | 3,628 | 480.00 | 29,024
ARMs Rate Adjustments with Payment Change Disclosures (1026.20(c)) | Mandatory Disclosure | 3,628 | N/A | 1 | 3,628 | 90.00 | 5,442
Initial Rate Adjustment Disclosure for ARMs (1026.20(d)) | Mandatory Disclosure | 3,628 | N/A | 1 | 3,628 | 120.00 | 7,256
Escrow Cancellation Notice (1026.20(e)) | Mandatory Disclosure | 3,628 | N/A | 1 | 3,628 | 480.00 | 29,024
Periodic Statements (1026.41) | Mandatory Disclosure | 3,628 | N/A | 1 | 3,628 | 480.00 | 29,024
Ability to Repay Requirements:
Minimum Standards (1026.43(c) through (f)) | Mandatory Recordkeeping | 3,628 | 926 | 1 | 3,359,528 | 15.00 | 839,882
Prepayment Penalties (1026.43(g)) | Mandatory Disclosure | 3,628 | 16 | 1 | 58,048 | 12.00 | 11.610
Mortgage Products (Open and Closed-End)
• Mortgage Servicing Disclosures
Payoff Statements:
Payoff Statements (1026.36(c)(3)) | Mandatory Disclosure | 3,628 | N/A | 1 | 3,628 | 480.00 | 29,024
Notice of Sale or Transfer:
Notice of Sale or Transfer (1026.39) | Mandatory Disclosure | 3,628 | N/A | 1 | 3,628 | 480.00 | 29,204
• Valuation Independence
Mandatory Reporting:
Reporting Appraiser Noncompliance (1026.42(g)) | Mandatory Reporting | 3,628 | 1 | 1 | 3,628 | 10.00 | 605
Reverse and High-Cost Mortgages
• Reverse Mortgages
Reverse Mortgage Disclosures:
Reverse Mortgage Disclosures (1026.31(c)(2) and .33) | Mandatory Disclosure | 14 | N/A | 1 | 14 | 1,440.00 | 336
• High-Cost Mortgage Loans
HOEPA Disclosures and Notice:
HOEPA Disclosures and Notice (1026.32(c) | Mandatory Disclosure | 3,628 | N/A | 1 | 3,628 | 14.00 | 847
Private Education Loans
• Initial Disclosures
Application and Solicitation Disclosures:
Application or Solicitation Disclosures (1026.47(a)) | Mandatory Disclosure | 3,561 | N/A | 1 | 3,561 | 3,600.00 | 213,660
Approval Disclosures:
Approval Disclosures (1026.47(b)) | Mandatory Disclosure | 3,561 | N/A | 1 | 3,561 | 3,600.00 | 213,660
Final Disclosures:
Final Disclosures (1026.47(c)) | Mandatory Disclosure | 3,561 | N/A | 1 | 3,561 | 3600.00 | 213,660
Advertising Rules
• All Credit Types
Open-End Credit:
Open-End Credit (1026.16) | Mandatory Disclosure | 3,624 | 5 | 1 | 18,120 | 20.00 | 6,040
Closed-End Credit:
Closed-End Credit (1026.24) | Mandatory Disclosure | 3,628 | 5 | 1 | 18,140 | 20.00 | 6,047
Record Retention
• Evidence of Compliance
Regulation Z in General (1026.25) | Mandatory Recordkeeping | 3,652 | N/A | 1 | 3,652 | 18.00 | 1,096
Total Estimated Ongoing Burden |  |  |  |  |  |  | 2,395,594
Total Estimated Annual Burden |  |  |  |  |  |  | 2,395,630

General Description of Collection: Consumer Financial Protection Bureau (CFPB) Regulation Z—12 CFR 1026 implements the Truth in Lending Act (15 U.S.C. 1601, et seq.) and certain provisions of the Real Estate Settlement Procedures Act (12 U.S.C. 2601 et seq.). This regulation prescribes uniform methods for computing the cost of credit, the disclosure of credit terms and costs, the resolution of errors and imposes various other recordkeeping, reporting and disclosure requirements. The FDIC has enforcement authority on the requirements of the CFPB's Regulation over the financial institutions it supervises. This information collection captures the recordkeeping, reporting and disclosure burdens of Regulation Z on FDIC-supervised institutions.

To arrive at the estimated annual burden the FDIC assessed the number of potential respondents to the information collection by identifying the number of FDIC-supervised institutions who reported activity that would be within the scope of the information collection requirements according to data from the most recent CALL Report. Additionally, the FDIC estimated the frequency of responses to the recordkeeping, reporting, or disclosure requirements by assessing the dollar volume of activity that would be within the scope of the information collection. In some instances the FDIC used information provided by other sources to estimate the magnitude and scope of activity attributable to FDIC-supervised institutions when more immediate information sources did not exist.

2. Title: Account Based Disclosures in Connection with Consumer Financial Protection Bureau Regulations E and DD and Federal Reserve Regulation CC.

OMB Number: 3064-0084.

Form Number: None.

Affected Public: FDIC-supervised institutions.

Burden Estimate:

Summary of Annual Burden
| Type of burden | Obligation to respond | Estimated number of respondents | Estimated time per response (hours) | Estimated frequency | Frequency of response | Total annual estimated burden
Reg. E—12 C.F.R. Part 1005
Initial disclosures:
General (1005.7(b)) | Disclosure | Mandatory | 3,674 | 0.025 | 83 | On Occasion | 7,624
Payroll cards (1005.18(c)(1)) | Disclosure | Mandatory | 6 | 0.025 | 5,000 | On Occasion | 750
Change-in-terms (1005.8(a)) | Disclosure | Mandatory | 3,674 | 0.017 | 113 | On Occasion | 6,919
Transaction disclosures (sections 1005.9(a) and 1005.10) | Disclosure |  |  |  |  |  | 0
Periodic statements (section 1005.9(b)) | Disclosure |  |  |  |  |  | 0
Error resolution rules:
General (1005.8(b) and 1005.11) | Disclosure | Mandatory | 3,674 | 0.500 | 3 | On Occasion | 5,511
Payroll cards (1005.18) | Disclosure | Mandatory | 6 | 0.500 | 8 | On Occasion | 24
Overdraft opt-in disclosures (1005.17, FRB R-1343):
Revise and update initial disclosures (1005.17(c)(2)) for new customers | Disclosure | Mandatory | 3,625 | 16.000 | 1 | On Occasion | 58,000
Prepare and send new opt-in notices to existing customers (1005.17(c)(1)) | Disclosure | Mandatory | 3,625 | 16.000 | 1 | On Occasion | 58,000
Consumer response (section 1005.17) | Recordkeeping | Voluntary | 3,625 | 0.083 | 7,207 | On Occasion | 2,177,115
Gift card/gift certificate (section 1005.20, FRB R-1377):
Exclusion policies & procedures (1005.20(b)(2)) one-time | Recordkeeping | Mandatory | 6 | 40.000 | 1 | On Occasion | 240
Exclusion policies & procedures (1005.20(b)(2)) ongoing | Recordkeeping | Mandatory | 6 | 8.000 | 1 | On Occasion | 48
Policy & procedures (1005.20(e)(1)) one-time | Recordkeeping | Mandatory | 6 | 40.000 | 1 | On Occasion | 240
Policy & procedures (1005.20(e)(1)) ongoing | Recordkeeping | Mandatory | 6 | 8.000 | 1 | On Occasion | 48
Systems change to implement disclosure update (1005.20(e)(3)) | Disclosure | Mandatory | 6 | 40.000 | 1 | On Occasion | 240
Subtotal Reg. E Burden |  |  |  |  |  |  | 2,314,759

General Description of Collection: Regulations E & DD (Consumer Financial Protection Bureau's Regulations) and Regulation CC (the Federal Reserve's Regulation) ensure adequate disclosures regarding accounts, including electronic fund transfer services, availability of funds, and fees and annual percentage yield for deposit accounts. Generally, the Regulation E disclosures are designed to ensure consumers receive adequate disclosure of basic terms, costs, and rights relating to electronic fund transfer (EFT) services provided to them so that they can make informed decisions. Institutions offering EFT services must disclose to consumers certain information, including: Initial and updated EFT terms, transaction information, the consumer's potential liability for unauthorized transfers, and error resolution rights and procedures.

Like Regulation E, Regulation CC has consumer protection disclosure requirements. Specifically, Regulation CC requires depository institutions to make funds deposited in transaction accounts available within specified time periods, disclose their availability policies to customers, and begin accruing interest on such deposits promptly. The disclosures are intended to alert customers that their ability to use deposited funds may be delayed, prevent unintentional (and costly) overdrafts, and allow customers to compare the policies of different institutions before deciding at which institution to deposit funds. Depository institutions must also provide an awareness disclosure regarding substitute checks. The regulation also requires notice to the depositary bank and to a customer of nonpayment of a check. Regulation DD also has similar consumer protection disclosure requirements that are intended to assist consumers in comparing deposit accounts offered by institutions, principally through the disclosure of fees, the annual percentage yield, and other account terms. Regulation DD requires depository institutions to disclose yields, fees, and other terms concerning deposit accounts to consumers at account opening, upon request, and when changes in terms occur. Depository institutions that provide periodic statements are required to include information about fees imposed, interest earned, and the annual percentage yield (APY) earned during those statement periods. It also contains rules about advertising deposit accounts. There is no change in the method or substance of the collection. The overall reduction in burden hours is the result of economic fluctuation and the reduced number of FDIC-supervised institutions since the last submission in 2014. In particular, the number of respondents has decreased while the hours per response and frequency of responses have remained the same.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on February 23, 2021.
James P. Sheesley,
Assistant Executive Secretary.

[FR Doc. 2021-04046 Filed 2-25-21; 8:45 am]

BILLING CODE 6714-01-P